FEDERAL COMMUNICATIONS COMMISSION

[Report No. 2425]

Petitions for Reconsideration and Clarification of Action in Rulemaking Proceedings

July 12, 2000.s

Petitions for Reconsideration and Clarification have been filed in the Commission's rulemaking proceedings listed in this Public Notice and published pursuant to 47 CFR section 1.429(e). The full text of these documents are available for viewing and copying in Room CY-A257, 445 12th Street, SW., Washington, DC or may be purchased from the Commission's copy contractor, ITS, Inc., (202) 857-3800.

Oppositions to these petitions must be filed by August 3, 2000. See section 1.4(b)(1) of the Commission's rules (47 CFR 1.4(b)(1)). Replies to an opposition must be filed within 10 days after the time for filing oppositions has expired.

Subject: Changes to the Board of Directors of the National Exchange Carrier Association, Inc. (CC Docket No. 97-21).

Federal-State Joint Board on Universal Service (CC Docket No. 96-45).

Number of Petitions Filed: 21.

Subject: Reexamination of the Comparative Standards for Noncommercial Educational Applicants (MM Docket No. 95-31).

Number of Petitions Filed: 17.

Subject: Amendment of the Commission's Rules to Establish New Personal Communications Services, Narrowband PCS (GEN Docket No. 90-314, ET Docket No. 92-100).

Implementation of Section 309(j) of the Communications Act—Competitive Bidding, Narrowband PCS (PP Docket No. 93-253).

Number of Petitions Filed: 2.

Federal Communications Commission.
Magalie Roman Salas,
Secretary.

[FR Doc. 00-18188 Filed 7-18-00; 8:45 am]

BILLING CODE 6712-01-M